Proclamation 7700 of September 1, 2003

National Prostate Cancer Awareness Month, 2003

By the President of the United States of America

A Proclamation

Prostate cancer is the second most common form of cancer among men in the United States. This year alone, it is estimated that more than 220,000 new cases of prostate cancer will be diagnosed and that nearly 29,000 men will die from this disease. During National Prostate Cancer Awareness Month, we seek to increase understanding about the risk factors of prostate cancer, the importance of a healthy lifestyle, and the benefits of detecting the disease in its earliest stages, when it is most treatable.

Although the exact cause of prostate cancer is unknown, several factors have been found to increase the risk of developing this disease. Men aged 65 years or older make up about 70 percent of all diagnosed prostate cancer cases. In addition, a man's risk of developing prostate cancer doubles if a father or brother has been diagnosed with the disease.

Making healthy choices is critical to prevent prostate cancer and many other diseases. Research suggests that some men may be able to reduce their risk of prostate cancer by eating healthy foods and exercising on a regular basis.

Early detection is important in successfully treating prostate cancer. Preventative screenings can reveal a man's current health status and identify whether he needs to adjust his diet or behavior. I urge men, particularly those over 50, to learn more about the disease and to talk to their doctors about when to start preventative screening. Healthcare providers can advise men as to which tests are most appropriate. Through early detection and treatment, we can reduce the number of deaths caused by prostate cancer.

Today, our Nation is on the leading edge of new discoveries. As we continue to make advancements in medicine, my Administration remains committed to learning the causes of prostate cancer and finding a cure. My fiscal year 2004 budget proposal includes more than $13 million for the Centers for Disease Control and Prevention to conduct, support, and promote efforts that increase awareness of screening and early detection, and more than $5.6 billion for cancer research at the National Institutes of Health. Through my HealthierUS Initiative, my Administration is also encouraging all citizens to lead healthier lives by eating right, exercising, and taking advantage of preventative screening. By working together, we will improve our ability to prevent, treat, and cure prostate cancer.

NOW, THEREFORE, I, GEORGE W. BUSH, President of the United States of America, by virtue of the authority vested in me by the Constitution and laws of the United States, do hereby proclaim September 2003 as National Prostate Cancer Awareness Month. I call upon government officials, businesses, communities, healthcare professionals, educators, volunteers, and all people of the United States to reaffirm our Nation's strong and continuing commitment to prevent, treat, and cure prostate cancer.

IN WITNESS WHEREOF, I have hereunto set my hand this first day of September, in the year of our Lord two thousand three, and of the Independence of the United States of America the two hundred and twenty-eighth.

B

[FR Doc. 03-22811

Filed 9-4-03; 8:45 am]

Billing code 3195-01-P